CONSUMER PRODUCT SAFETY COMMISSION

16 CFR Part 1028

Protection of Human Subjects

AGENCY: Consumer Product Safety Commission.

ACTION: Notice of proposed rulemaking; extension of comment period.

SUMMARY: On September 8, 2015, the federal departments and agencies subject to the Federal Policy for the Protection of Human Subjects (referred to as the “Common Rule”) published a notice of proposed rulemaking (“NPR”) amending the Common Rule. Separately, on September 24, 2015, the Consumer Product Safety Commission (“CPSC” or “Commission”) proposed to adopt the Common Rule NPR by amending the Commission's regulations. The comment period for the Common Rule NPR is being extended; therefore, CPSC is extending the comment period for its proposed rule, accordingly.

DATES: The comment period for the CPSC's NPR published on September 24, 2015 (80 FR 57549), is extended by 30 days and thus will end on January 6, 2016.

ADDRESSES: You may submit comments, identified by docket ID number HHS-OPHS-2015-0008, by one of the following methods:

• Federal eRulemaking Portal: http://www.regulations.gov. Enter the above docket ID number in the “Enter Keyword or ID” field and click on “Search.” On the next Web page, click on “Submit a Comment” action and follow the instructions.

• Mail/Hand delivery/Courier [For paper, disk, or CD-ROM submissions] to: Jerry Menikoff, M.D., J.D., OHRP, 1101 Wootton Parkway, Suite 200, Rockville, MD 20852.

Comments received, including any personal information, will be posted without change to www.regulations.gov.

FOR FURTHER INFORMATION CONTACT: Hope E. J. Nesteruk, Human Factors Engineer, Division of Human Factors, Directorate for Engineering Sciences, Consumer Product Safety Commission, 5 Research Place, Rockville, MD 20850; telephone: 301-987-2579; email: hnesteruk@cpsc.gov.

SUPPLEMENTARY INFORMATION: Since the Common Rule NPR was published on September 8, 2015 (80 FR 53933), participating departments and agencies have received requests to extend the comment period to allow sufficient time for a full review of the proposed rule. Accordingly, the comment period for the Common Rule NPR published on September 8, 2015, has been extended and will end on January 6, 2016. Along with the other participating departments and agencies subject to the Common Rule, the CPSC provides notice that the comment period on the CPSC's NPR published on September 24, 2015 (80 FR 57549), has been extended to afford the public an additional opportunity to comment through the process set forth in the ADDRESSES section of this document.

Dated: November 25, 2015.
Todd A. Stevenson,
Secretary, Consumer Product Safety Commission.

[FR Doc. 2015-30407 Filed 11-30-15; 8:45 am]

BILLING CODE 6355-01-P